DEPARTMENT OF THE INTERIOR

Bureau of Reclamation

Glen Canyon Dam Adaptive Management Work Group (AMWG)

AGENCY: Bureau of Reclamation, Interior.

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Dates and Addresses: The AMWG will conduct the following meeting:

Date: Wednesday-Thursday, April 29-30, 2009. The meeting will begin at 9:30 a.m. and end at 5 p.m. the first day and will begin at 8 a.m. and conclude at approximately 12:30 p.m. on the second day. The meeting will be held at the Bureau of Indian Affairs, 2 Arizona Center, 400 N. 5th Street, 12th Floor, Conference Rooms A & B, Phoenix, Arizona.

Agenda: The purpose of the meeting will be for the AMWG to receive updates and discuss the following items: (1) Final Fiscal Year 2008 expenditures, (2) Review of Fiscal Year 2010-11 priorities and preliminary budget, workplan, and hydrograph, (3) Status of Grand Canyon Monitoring and Research Center projects, (4) Species extirpated from Grand Canyon, (5) Biological opinion conservation measures, (6) Basin hydrology, as well as other administrative and resource issues pertaining to the AMP. To view a copy of the agenda and documents related to the above meeting, please visit Reclamation's Web site at: http://www.usbr.gov/uc/rm/amp/amwg/mtgs/09apr29/index.html. Time will be allowed for any individual or organization wishing to make formal oral comments on the call. To allow for full consideration of information by the AMWG members, written notice must be provided to Dennis Kubly, Bureau of Reclamation, Upper Colorado Regional Office, 125 South State Street, Room 6107, Salt Lake City, Utah 84138; telephone 801-524-3715; facsimile 801-524-3858; e-mail at dkubly@uc.usbr.gov at least five (5) days prior to the call. Any written comments received will be provided to the AMWG members.

FOR FURTHER INFORMATION CONTACT: Dennis Kubly, Bureau of Reclamation, telephone (801) 524-3715; facsimile (801) 524-3858; e-mail at dkubly@uc.usbr.gov.

Dated: March 19, 2009.
Dennis Kubly,
Chief, Adaptive Management Group, Environmental Resources Division, Upper Colorado Regional Office, Salt Lake City, Utah.

[FR Doc. E9-7949 Filed 4-7-09; 8:45 am]

BILLING CODE 4310-MN-P